Title 3—

The President

Proclamation 10758 of May 16, 2024

70th Anniversary of Brown v. Board of Education

By the President of the United States of America

A Proclamation

Seventy years ago, the Supreme Court delivered a unanimous decision in Brown v. Board of Education that outlawed racial segregation in our Nation's public schools, finding that “separate but equal” is “inherently unequal.” That landmark decision helped us move closer to realizing the idea that defines who we are as a Nation: We are all created equal and deserve to be treated equally throughout our lives. While our society has never fully lived up to that idea, we have never fully walked away from it either—and on this milestone anniversary, we promise we will not walk away from it now.

As we commemorate 70 years since Brown v. Board of Education changed our Nation, we also commemorate the important foundation that was laid in Delaware. A mother in Hockessin, joined by the parents of eight other students in Claymont, simply wanted their children to attend school and be treated with dignity and respect. Through Bulah v. Gebhart and Belton v. Gebhart, courageous lawyers and judges in Delaware—like Louis Redding and Chancellor Collins Seitz—helped lay the legal groundwork for the Brown v. Board of Education decision to strike down the insidious doctrine of separate but equal.

Brown v. Board of Education may have opened up schools to all our Nation's students, but the fight to get these students into classrooms persisted. There were still people in power who wanted to pull America back to the past, doing everything they could to keep school doors shut to Black students. Our Nation will never forget the stories of the Little Rock Nine, the group of students who were refused entry to their local high school by the National Guard blocking the doors. We will never forget the story of Ruby Bridges, who at only six-years-old had to be escorted by United States Marshals to her elementary school because an angry mob tried to prevent her from entering. Across the country, Black students who entered newly desegregated schools endured discrimination, harassment, and racism from their peers, educators, and school administrators. Yet, these students in the face of danger returned to class again and again, backed by community and civil rights leaders who were determined to take a stand for racial justice and equity that would benefit future generations of Americans. They showed us that bravery exists in the youngest of hearts, possessing the guts and courage to stand up for the best of our country. All the while, they kept faith in our Nation and in our North Star—the sacred ideals at the heart of who we are.

Today, we know that the lessons learned from Brown v. Board of Education served as a catalyst for the most fundamental civil rights legislation of our time like the 1964 Civil Rights Act and 1965 Voting Rights Act. But while the decision in Brown v. Board of Education has allowed so many schools to develop diverse, inclusive learning communities that value empathy, kindness, and tolerance, the full potential of Brown v. Board of Education remains unfulfilled. There is still so much work to do to ensure that every student has equal access to a quality education and that our school systems fully benefit from the diversity and talent of our students—because diversity has always been one of our Nation's greatest strengths.

Since I came into office, we have prioritized making our schools more equitable. My Administration secured nearly $2 billion in additional Title I funding under the Elementary and Secondary Education Act to help provide a high-quality education to our most underserved students. Additionally, my American Rescue Plan delivered historic funding to our Nation's schools, supporting critical programs that help level the playing field like after-school and summer programs. Further, after the Supreme Court effectively ended affirmative action in college admissions, I directed the Department of Education to analyze what practices help build more inclusive and diverse student bodies. At the same time, we are making sure to tell the full truth of our Nation's history, and I am proud to have signed a bill to expand the historic sites of Brown v. Board of Education National Historical Park, preserving this essential history.

On this milestone anniversary, may we honor the Brown v. Board of Education decision and all the people who have fought so hard to open classroom doors to every student. It is a reminder that the promise of America is big enough for everyone to succeed and that every generation of Americans has benefited by opening the doors of opportunity just a little bit wider to include those who have been left behind. Today, may we recognize the inherent value in having diverse, thriving schools and continue working together to build a future worthy of the dreams and aspirations of our Nation's students.

NOW, THEREFORE, I, JOSEPH R. BIDEN JR., President of the United States of America, by virtue of the authority vested in me by the Constitution and the laws of the United States, do hereby proclaim May 17, 2024, as the 70th anniversary of Brown v. Board of Education. I call upon Americans to honor all the civil rights leaders, activists, educators, and students who have fought for decades to make our schools more equitable and work together to realize the promise of America for every American.

IN WITNESS WHEREOF, I have hereunto set my hand this sixteenth day of May, in the year of our Lord two thousand twenty-four, and of the Independence of the United States of America the two hundred and forty-eighth.

[FR Doc. 2024-11260

Filed 5-20-24; 8:45 am]

Billing code 3395-F4-P